DEPARTMENT OF ENERGY

Federal Energy Regulatory Commission

Combined Notice of Filings #1

Take notice that the Commission received the following electric corporate filings:

Docket Numbers: EC19-3-000.

Applicants: Dominion Energy Fairless, LLC, Dominion Energy Manchester Street, Inc., Spade Facilities II, L.L.C.

Description: Joint Application for Authorization Under Section 203 of the Federal Power Act, et al. of Dominion Energy Fairless, LLC, et. al.

Filed Date: 10/2/18.

Accession Number: 20181002-5275.

Comments Due: 5 p.m. ET 10/23/18.

Docket Numbers: EC19-4-000.

Applicants: Stillwater Wind, LLC.

Description: Application for Authorization Under Section 203 of the Federal Power Act, et al. of Stillwater Wind, LLC.

Filed Date: 10/4/18.

Accession Number: 20181004-5085.

Comments Due: 5 p.m. ET 10/25/18.

Take notice that the Commission received the following electric rate filings:

Docket Numbers: ER16-914-002.

Applicants: Axpo U.S. LLC.

Description: Notice of Non-Material Change in Status of Axpo U.S. LLC.

Filed Date: 10/3/18.

Accession Number: 20181003-5154.

Comments Due: 5 p.m. ET 10/24/18.

Docket Numbers: ER18-1899-002.

Applicants: Midcontinent Independent System Operator, Inc.

Description: Tariff Amendment: 2018-10-03_Amendment to Deficiency Response re Pro Forma Pseudo-Tie Agreement to be effective 8/29/2018.

Filed Date: 10/3/18.

Accession Number: 20181003-5117.

Comments Due: 5 p.m. ET 10/24/18.

Docket Numbers: ER19-46-000.

Applicants: NorthWestern Corporation.

Description: Tariff Cancellation: Cancellation of Tariff ID 28 to be effective 10/8/2018.

Filed Date: 10/3/18.

Accession Number: 20181003-5103.

Comments Due: 5 p.m. ET 10/24/18.

Docket Numbers: ER19-47-000.

Applicants: Midcontinent Independent System Operator, Inc.

Description: § 205(d) Rate Filing: 2018-10-03_SA 3177 Heartland Wind-NSP GIA (J432) to be effective 9/28/2018.

Filed Date: 10/3/18.

Accession Number: 20181003-5110.

Comments Due: 5 p.m. ET 10/24/18.

Docket Numbers: ER19-48-000.

Applicants: Midcontinent Independent System Operator, Inc., ALLETE, Inc.

Description: § 205(d) Rate Filing: 2018-10-03_SA 3173 MP-GRE T-L IA (Carlton) to be effective 10/4/2018.

Filed Date: 10/3/18.

Accession Number: 20181003-5127.

Comments Due: 5 p.m. ET 10/24/18.

Docket Numbers: ER19-49-000.

Applicants: PJM Interconnection, L.L.C.

Description: § 205(d) Rate Filing: Original ISA & CSA, SA Nos. 5210 & 5211; Cancel IISA, No. 5151; Queue No. AB2-134 to be effective 9/10/2018.

Filed Date: 10/4/18.

Accession Number: 20181004-5023.

Comments Due: 5 p.m. ET 10/25/18.

Docket Numbers: ER19-50-000.

Applicants: Midcontinent Independent System Operator, Inc., ALLETE, Inc.

Description: § 205(d) Rate Filing: 2018-10-04_SA 3172 MP-GRE T-L IA (Magnetation Tap) to be effective 10/5/2018.

Filed Date: 10/4/18.

Accession Number: 20181004-5048.

Comments Due: 5 p.m. ET 10/25/18.

Docket Numbers: ER19-51-000.

Applicants: Pacific Gas and Electric Company.

Description: § 205(d) Rate Filing: Amendment to Interim Black Start Agreement (RS 234) to be effective 12/4/2018.

Filed Date: 10/4/18.

Accession Number: 20181004-5072.

Comments Due: 5 p.m. ET 10/25/18.

Docket Numbers: ER19-52-000.

Applicants: Duke Energy Florida, LLC.

Description: Notice of Termination of Standard Large Generator Interconnection Agreement (No. TF-183) of Duke Energy Florida, LLC.

Filed Date: 10/4/18.

Accession Number: 20181004-5106.

Comments Due: 5 p.m. ET 10/25/18.

Take notice that the Commission received the following electric securities filings:

Docket Numbers: ES19-1-000.

Applicants: Kansas City Power & Light Company, KCP&L Greater Missouri Operations Company, Kansas Gas and Electric Company, Westar Energy, Inc.

Description: Joint Application for Authorization Under FPA Section 204 to Issue Short-Term Debt Securities of Kansas City Power & Light Company, et al.

Filed Date: 10/3/18.

Accession Number: 20181003-5153.

Comments Due: 5 p.m. ET 10/24/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 4, 2018.
Nathaniel J. Davis, Sr.,
Deputy Secretary.

[FR Doc. 2018-22065 Filed 10-10-18; 8:45 am]

BILLING CODE 6717-01-P